TENNESSEE VALLEY AUTHORITY

Notice of Sunshine Act Meeting

[Meeting No. 06-07]

Time and Date: 10 a.m., November 30, 2006, TVA West Tower Auditorium, 400 West Summit Hill Drive, Knoxville, Tennessee 37902.

Status: Open.

Agenda

Old Business

Approval of minutes of October 13, 2006, Board Meeting.

New Business

1. President's Report.

A. 2007 Board meeting schedule.

2. Report of the Corporate Governance Committee.

A. TVA Board Practices Concept.

B. TVA Board Practice on notational Board approval process.

C. TVA Board Practice on approval of general procurement contracts.

D. TVA Board Practice on use of TVA Plane by Board members.

E. TVA Board Practice establishing guidelines and cost parameters for Board committees' engagement of outside advisors.

F. TVA Corporate Calendar.

3. Report of the Community Relations Committee.

A. Land policy.

B. Renewal of Regional Resource Stewardship Council Charter.

4. Report of the Finance, Strategy, and Rates Committee.

A. Resolutions authorizing the issuance of new power bonds.

B. Tax-equivalent payments for Fiscal Year 2006 and estimated payments for Fiscal Year 2007.

C. Retention of Net Power Proceeds and Nonpower Proceeds and Payments to the U.S. Treasury.

5. Report of the Operations, Environment, and Safety Committee.

A. Contract for purchase of Gleason, Tennessee, combustion turbine generating plant from Allegheny Energy Supply Gleason Generating Facility LLC.

B. Contracts with ABB Inc. and Mitsubishi Electric Power Products Inc. for power circuit breakers.

C. Term contracts with Franklin Industries Inc., Martin Marietta Materials Inc., and Vulcan Construction Materials LP for limestone reagent needed for operation of TVA fossil plants.

D. Spot coal contracts with American Coal Company and Consolidation Coal Company.

6. Report of the Audit and Ethics Committee.

A. Conflict-of-interest policy.

7. Report of the Human Resources Committee.

A. Amendments to the TVA Retirement System Rules and 401(k) Plan to count certain lump sums awarded in FY 2007 as regular salary and wages for calculating TVARS benefits.

B. Contract with Medco Health Solutions Inc. to administer TVA's prescription drug plan for employees and retirees.

C. FY 2007 Winning Performance Scorecard.

D. Extension of interim Human Resources and Labor Relations delegations.

8. Information Items.

A. Temporary reintegration fee waiver opportunity for noticing distributors to reinstate power contracts without additional cost fee.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: November 22, 2006.
Maureen H. Dunn,
General Counsel and Secretary.

[FR Doc. 06-9448 Filed 11-24-06; 10:23 am]

BILLING CODE 8120-08-P